DEPARTMENT OF HOUSING AND URBAN DEVELOPMENT

[Docket No. FR-7042-N-01]

60-Day Notice of Proposed Information Collection: Office of Lead Hazard Control and Healthy Homes Grant Programs Assessment of the HUD Grants To Promote Coordination between Grantees of HUD's Lead Hazard Control Program and DOE's Weatherization Assistance Program

AGENCY: Office of Lead Hazard Control and Healthy Homes, HUD.

ACTION: Notice.

SUMMARY: HUD is seeking approval from the Office of Management and Budget (OMB) for the information collection described below. In accordance with the Paperwork Reduction Act, HUD is requesting comment from all interested parties on the proposed collection of information. The purpose of this notice is to allow for 60 days of public comment.

DATES: Comments Due Date: March 15, 2021.

ADDRESSES: Interested persons are invited to submit comments regarding this proposal. Comments should refer to the proposal by name and/or OMB Control Number and should be sent to: Anna P. Guido, Reports Management Officer, QDAM, Department of Housing and Urban Development, 451 7th Street, SW, Room 4176, Washington, DC 20410-5000; telephone 202-402-5535 (this is not a toll-free number) or email at Anna.P.Guido@hud.gov for a copy of the proposed forms or other available information. Persons with hearing or speech impairments may access this number through TTY by calling the toll-free Federal Relay Service at (800) 877-8339.

FOR FURTHER INFORMATION CONTACT: Anna P. Guido, Reports Management Officer, QDAM, Department of Housing and Urban Development, 451 7th Street, SW, Washington, DC 20410; email Anna P. Guido at Anna.P.Guido@hud.gov or telephone 202-402-5535. This is not a toll-free number. Persons with hearing or speech impairments may access this number through TTY by calling the toll-free Federal Relay Service at (800) 877-8339.

Copies of available documents submitted to OMB may be obtained from Ms. Guido.

SUPPLEMENTARY INFORMATION: This notice informs the public that HUD is seeking approval from OMB for the information collection described in Section A.

A. Overview of Information Collection

Title of Information Collection: Assessment of the HUD Grants to Promote Coordination between Grantees of HUD's Lead Hazard Control Program and DOE's Weatherization Assistance Program.

OMB Approval Number: 2539-Pending.

Type of Request: New request.

Form Number: None.

Description of the need for the information and proposed use: Congress requested HUD to do the following: (1) Demonstrate whether the coordination of Healthy Homes remediation activities with weatherization activities achieves cost savings and better outcomes in improving the safety and quality of homes, and (2) collect information on the benefits of coordinating with DOE, evaluate if improved health outcomes are achieved, and provide information on the replicability and sustainability of these models. This information collection request is to collect information on the potential benefits of coordinated service delivery by HUD's Lead Hazard Control Program and DOE's Weatherization Assistance Program grantees and subgrantees.

Respondents: Lead Hazard Control (LHC) Grantees; Weatherization Assistance Program (WAP) Grantees; and residential property owners or residents (renters).

Total Burden Estimate: The table below reflects our estimate of the burden on the LHC and WAP grantees, and the residents that will be recruited.

Information collection | Number of respondents | Frequency of response | Responses per annum | Burden hour per response | Annual Burden hours | Hourly cost per response | Annual cost
Grantees | 18 | 4 | 4 | 2 | 144 | $17.48 | $ 2,517
Residents | 150 | 4 | 4 | 0.5 | 300 | $7.50 | $ 2,250
Total | 168 | 4 | 4 |  |  |  | $ 4,767

B. Solicitation of Public Comment

This notice is soliciting comments from members of the public and affected parties concerning the collection of information described in Section A on the following:

(1) Whether the proposed collection of information is necessary for the proper performance of the functions of the agency, including whether the information will have practical utility;

(2) The accuracy of the agency's estimate of the burden of the proposed collection of information;

(3) Ways to enhance the quality, utility, and clarity of the information to be collected; and

(4) Ways to minimize the burden of the collection of information on those who are to respond; including through the use of appropriate automated collection techniques or other forms of information technology, e.g., permitting electronic submission of responses

HUD encourages interested parties to submit comments in response to these questions.

C. Authority:

Section 3507 of the Paperwork Reduction Act of 1995, 44 U.S.C. Chapter 35.

The Senior Advisor to the Director for the Office of Lead Hazard Control and Healthy Homes, Warren Friedman, having reviewed and approved this document, is delegating the authority to electronically sign this document to submitter, Nacheshia Foxx, who is the Federal Register Liaison for HUD, for purposes of publication in the Federal Register.

Nacheshia Foxx,
Federal Register Liaison for the Department of Housing and Urban Development.

[FR Doc. 2021-00673 Filed 1-13-21; 8:45 am]

BILLING CODE 4210-67-P